CORPORATION FOR NATIONAL AND COMMUNITY SERVICE

Privacy Act of 1974, as Amended; System of Records

AGENCY: Corporation for National and Community Service.

ACTION: Notice of amended system of records.

SUMMARY: Notice is hereby given that in accordance with the Privacy Act of 1974, as amended, 5 U.S.C. 552a(e)(4), (“the Act”), the Corporation for National and Community Service hereby publishes a notice of its amended system of records due to minor changes to the current system of records as set forth below. Title 5 U.S.C. 552a(e)(4) and (11) provides that the public be given 30 days to comment on the amended system of records. The Office of Management and Budget (OMB), which has oversight responsibilities under the Privacy Act, requires 40 days to conclude its review of the amended system of records.

EFFECTIVE DATES: The proposed changes will be effective without further notice on March 14, 2002, unless comments are received which result in a contrary determination.

ADDRESSES: Comments should be addressed to the Corporation for National and Community Service, Office of Administrative and Management Services, Attn: Denise Moss, Corporation Records Liaison Officer, 1201 New York Avenue, NW., Washington, DC, 20525.

FOR FURTHER INFORMATION CONTACT: Denise Moss, Corporation Records Liaison Officer, 202-606-5000, extension 384. A copy of this amended system of records may be obtained in an alternate format by calling: TDD, 202-606-5256, or by writing to the Corporation for National and Community Service, Office of Administrative and Management Services, Attn: Corporation Records Liaison Officer, 1201 New York Avenue, NW., Washington, DC, 20525.

SUPPLEMENTARY INFORMATION: The Corporation publishes the following notice of its system of records: Notice of System of Records—Preliminary Statement.

Corporation—when used in the notice refers to Corporation for National and Community Service.

AmeriCorps—when used in the notice refers to the Volunteers In Service To America (VISTA) program, the National Civilian Community Corps (NCCC) program, the Leaders program, or the state and national program.

Operating Units—The names of the operating units within the Corporation to which a particular system of records pertains are listed under the system manager and address section of each system notice.

Official Personnel Files—Official personnel files of Federal employees in the General Schedule and the Corporation's Alternative Personnel System, in the custody of the Corporation are considered the property of the Office of Personnel Management (OPM). Access to such files shall be in accordance with such notices published by OPM. Access to such files in the custody of the Corporation will be granted to individuals to whom such files pertain upon request to the Corporation for National and Community Service, Director, Human Resources, 1201 New York Avenue, NW., Washington, DC, 20525.

Various offices in the Corporation maintain files which contain copies of miscellaneous personnel material affecting Corporation employees. These include copies of standard personnel forms, evaluation forms, etc. These files are kept only for immediate office reference and are considered by the Corporation to be part of the personnel file system. The Corporation's internal policy provides that such information is a part of the general personnel files and can be disclosed only through the Director, Human Resources, in order that he or she may ensure that any material to be disclosed is relevant, current, and fair to the individual employees. Also, it is the policy of the Corporation to limit the use of such files and to encourage the destruction of as many as possible.

Description of changes: Changes made to the Corporation's system of records are considered to be minor in nature consisting of several address updates. Other changes are purely technical in nature consisting of: (1) Descriptive changes from “member” to “he/she”; (2) Inclusion of field records at Service Centers, State Offices, and NCCC Campus locations in the Categories sections of Corporation 7; (3) Clarification of Categories of Records and routine uses for records listed in Corporation 5, 6, 11, and 14.

Statement of General Routine Uses—The following general routine uses are incorporated by this reference into each system of records set forth herein, unless specifically limited in the system description.

1. In the event that a record in a system of records maintained by the Corporation indicates, either by itself or in combination with other information in the Corporation's possession, a violation or potential violation of the law (whether civil, criminal, or regulatory in nature, and whether arising by statute or by regulation, rule or order issued pursuant thereto), that record may be referred, as a routine use, to the appropriate agency, whether Federal, state, local or foreign, charged with the responsibility of investigating or prosecuting such violation, or charged with enforcing or implementing the statute, rule, regulation, or order issued pursuant thereto. Such referral shall include, and be deemed to authorize: (1) Any and all appropriate and necessary uses of such records in a court of law or before an administrative board or hearing; and (2) such other interagency referrals as may be necessary to carry out the receiving agencies' assigned law enforcement duties.

2. A record may be disclosed as a routine use to designated officers and employees of other agencies and departments of the Federal government having an interest in the individual for employment purposes including the hiring or retention of any employee, the issuance of a security clearance, the letting of a contract, or the issuance of a license, grant or other benefit by the requesting agency, to the extent that the information is relevant and necessary to the requesting agency's decision on the matter involved, provided, however, that other than information furnished for the issuance of authorized security clearances, information divulged hereunder as to full-time volunteers under Title I of the Domestic Volunteer Service Act of 1973, as amended (42 U.S.C. 4951), and the National and Community Service Act of 1990, as amended, shall be limited to the provision of dates of service and a standard description of service as heretofore provided by the Corporation.

3. A record may be disclosed as a routine use in the course of presenting evidence to a court, magistrate or administrative tribunal of appropriate jurisdiction and such disclosure may include disclosures to opposing counsel in the course of settlement negotiations.

4. A record may be disclosed as a routine use to a member of Congress, or staff acting upon the constituent's behalf, when the member or staff requests the information on behalf of and at the request of the individual who is the subject of the record.

5. Information from certain systems of records, especially those relating to applicants for Federal employment or volunteer service, may be disclosed as a routine use to designated officers and employees of other agencies of the Federal government for the purpose of obtaining information as to suitability qualifications and loyalty to the United States Government.

6. Information from a system of records may be disclosed to any source from which information is requested in the course of an investigation to the extent necessary to identify the individual, inform the source of the nature and purpose of the investigation, and to identify the type of information requested.

7. Information in any system of records may be used as a data source, for management information, for the production of summary descriptive statistics and analytical studies in support of the function for which the records are collected and maintained, or for related personnel management functions or manpower studies. Information may also be disclosed to respond to general requests for statistical information (without personal identification of individuals) under the Freedom of Information Act.

8. A record from any system of records may be disclosed as a routine use of the National Archives and Records Administration in records management inspections conducted under authority of 44 U.S.C. 2904 and 2906.

9. A record may be disclosed to a Federal or state grand jury agent pursuant to a Federal or state grand jury subpoena or prosecution request that such record be released for the purpose of its introduction to a grand jury.

10. A record may be referred to suspension/debarment authorities, internal to the Corporation, when the record released is germane to a determination of the propriety or necessity for a suspension or debarment action.

11. A record may be disclosed to a contractor, grantee or other recipient of Federal funds when the record to be released reflects serious inadequacies with the recipient's personnel, and disclosure of the record is for the purpose of permitting the recipient to effect corrective action in the Government's best interests.

12. A record may be disclosed to a contractor, grantee or other recipient of Federal funds when the recipient has incurred an indebtedness to the Government through its receipt of Government funds, and release of the record is for the purpose of allowing the debtor to effect a collection against a third party.

13. Information in a system of records may be disclosed to “Consumer reporting agencies” (as defined in the Fair Credit Reporting Act, 14 U.S.C. 1681a(f), or the Federal Claims Collection Act of 1966, 31 U.S.C. 3701(a)(3)), the U.S. Department of the Treasury or other Federal agencies maintaining debt servicing centers, and to private collection contractors as a routine use for the purpose of collecting a debt owed to the Federal government as provided in regulations promulgated by the Corporation.

14. The names, social security numbers, home addresses, dates of birth, dates of hire, quarterly earnings, employer identifying information, and State of hire of employees may be disclosed to the: (a) Office of Child Support Enforcement, Administration for Children and Families, Department of Health and Human Services Federal Parent Locator System (FPLS), and Federal Tax Offset System for use in locating individuals and identifying their income sources to establish paternity, establishing and modifying orders of child support, identifying sources of income, and for other child support enforcement action; (b) Office of Child Support Enforcement for release to the Social Security Administration for verifying social security numbers in connection with the operation of the FPLS by the Office of Child Support Enforcement; and (3) Office of Child Support Enforcement for release to the U.S. Department of the Treasury for payroll and savings bonds and other deduction purposes, and for purposes of administering the Earned Income Tax Credit Program (Section 32, Internal Revenue Code of 1986), and verifying a claim with respect to employment on a tax return, as required by the Personal Responsibility and Work Opportunity Reconciliation Act of 1996 (Pub.L. 104-193).

15. A record may be disclosed as a routine use to a contractor, expert, or consultant of the Corporation (or an office within the Corporation) when the purpose of the release is in order to perform a survey, audit, or other review of the Corporation's procedures and operations.

Locations of Corporation Service Centers/State Offices—The Corporation maintains five Service Centers with State Offices within their service areas. The Services Centers, their addresses, and the States within their service areas are listed below. In the event of any doubt as to whether a record is maintained in a Service Center or State Office, a query should be directed to the address of the Service Center Director for the appropriate state under their jurisdiction where the volunteer performed their service as listed below. The Service Center Director shall furnish all assistance necessary to locate a specified record.

Atlantic Service Center, 801 Arch Street, Suite 103, Philadelphia, PA 19107-2416 (Connecticut, Delaware, Maine, Maryland, Massachusetts, New Hampshire, New Jersey, New York, Pennsylvania, Puerto Rico, Rhode Island, Vermont, and the Virgin Islands).

Southern Service Center, 60 Forsyth, Street SW, Suite. 3M40, Atlanta, GA 30303-3201 (Alabama, District of Columbia, Florida, Georgia, Kentucky, Mississippi, North Carolina, South Carolina, Tennessee, Virginia, and West Virginia).

North Central Service Center, Metcalfe Bldg., 77 West Jackson Blvd., Suite 442, Chicago, IL 60604-3511 (Illinois, Indiana, Iowa, Michigan, Minnesota, Nebraska, North Dakota, Ohio, South Dakota, and Wisconsin).

Southwest Service Center, 1999 Bryan Street, Suite 2050, Dallas, TX 75201 (Arizona, Arkansas, Colorado, Kansas, Louisiana, Missouri, New Mexico, Oklahoma, and Texas).

Pacific Service Center, 2201 Broadway, Suite 510, Oakland CA 94612-3024 (Alaska, American Samoa, California, Guam, Hawaii, Idaho, Montana, Nevada, Oregon, Utah, Washington, and Wyoming).

Notification—Individuals may inquire whether any system of records contains information pertaining to them by addressing the request to the specific Records Liaison Officer for each file category in writing. Such request should include the name and address of the individual, his or her social security number, any relevant data concerning the information sought, and, where possible, the place of assignment or employment, etc. In case of any doubt as to which system contains a record, interested individuals should contact the Corporation for National and Community Service, Office of Administrative and Management Services, Attn: Records Liaison Officer, 1201 New York Avenue, NW, Washington, DC, 20525, which has overall supervision of records systems and will provide assistance in locating and/or identifying appropriate systems.

Access and Contest—In response to a written request by an individual, the appropriate Records Liaison Officer will arrange for access to the requested record or advise the requester if no record exists. If an individual wishes to contest the content of any record, he or she may do so by addressing a written request to the State Program Director in the state where the member performed their assigned duties. If the State Program Director determines that a request to amend an individual's record should be denied, the State Program Director shall provide all necessary information regarding the request to the Privacy Act Officer, who is the Corporation's initial denial authority.

Locations of Corporation AmeriCorps National Civilian Community Corps Campuses—The Corporation maintains five AmeriCorps*National Civilian Community Corps Campuses (NCCC) under its jurisdiction. The Campuses, and their addresses are listed below. In the event there is any doubt as to whether a record is maintained at a campus location, questions should be directed to the address of the AmeriCorps*NCCC Regional Campus Director for the appropriate campus location where the volunteer performed their service as listed below. The Regional Campus Director shall furnish all assistance necessary to locate a specified record.

AmeriCorps*NCCC Capitol Region Campus, 2 D.C. Village Lane, S.W. Washington, D.C., 20032.

AmeriCorps*NCCC Northeast Campus, VA Medical Center, Building 15, Room 9, Perry Point, MD 21902-0027.

AmeriCorps*NCCC Southeast Campus, 2231 South Hopson Avenue, Charleston, S.C. 29405-2430.

AmeriCorps*NCCC Central Campus, 1059 Alton Way, Bldg 758, Room 213, Denver, CO 80230.

AmeriCorps*NCCC Western Campus, 3427 Laurel Street, McClellan, CA 95652.

Access and Contest—In response to a written request by an individual, the appropriate Records Liaison Officer arranges for access to the requested record or advises the requester if no record exists. If an individual wishes to contest the content of any record, he or she may do so by addressing a written request to the AmeriCorps*NCCC Regional Campus Director, located at the pertinent address for each campus location as listed above. If the Regional Campus Director determines that a request to amend an individual's record should be denied, the Regional Campus Director shall provide all necessary information regarding the request and his or her reason for the denial to the Privacy Act Officer, who is the Corporation's initial denial authority.

Location of the Corporation AmeriCorps*VISTA Alumni Office—The AmeriCorps*VISTA Alumni Office is located at the Corporation's Headquarters in Washington, D.C. This office maintains hard copy records, and is in the process of developing a more permanent electronic history of former VISTA and AmeriCorps*VISTA members.

Notification—Members may inquire whether this system of records contains information pertaining to them by addressing their request to the Corporation for National and Community Service, Attn: Alumni Coordinator, 1201 New York Avenue, NW, Washington, DC, 20525. Such request should include the member's name, social security number, and approximate dates of volunteer service.

Access and Contest—In response to a written request by a member, the Alumni Coordinator will arrange for access to the requested record or advise the requester if no record exists. If an individual wishes to contest the content of any record, he or she may do so by addressing a written request to the Corporation for National and Community Service, Attn: Alumni Coordinator, 1201 New York Avenue, NW, Washington, DC, 20525. If the Alumni Coordinator determines that the request to amend a member's record should be denied, the Alumni Coordinator shall provide all necessary information regarding the request and his or her reason for the denial to the Privacy Act Officer, who is the Corporation's initial denial authority.

Listing of System of Records

Momentum Financials Open Obligations and Automated Disbursement Files—Corporation-1

Momentum Financials Accounts Receivable Files—Corporation-2

Domestic Full-time Member Census Master File—Corporation-3

AmeriCorps Full-time Member Personnel Files—Corporation-4

Employee and Applicant Records Files—Corporation-5

Employee/Member Occupation Injury/Illness Reports and Claim Files—Corporation-6

Travel Files—Corporation-7

AmeriCorps Member Individual Accounts—Corporation-8

Counselors' Report Files—Corporation-9

Discrimination Complaint Files—Corporation-10

Employee Pay and Leave Record Files—Corporation-11

Freedom of Information Act and Privacy Act Request Files—Corporation-12

Legal Office Litigation/Correspondence Files—Corporation-13

Merit Promotion Plan Files—Corporation-14

Office of the Inspector General Investigative Files—Corporation-15

Travel Authorization Files—Corporation-16

Momentum Financials Vendor Files—Corporation-17

AmeriCorps*VISTA Volunteer Management System Files—Corporation-18

CORPORATION-1

SYSTEM NAME:

Momentum Financials Open Obligations and Automated Disbursement Files

SYSTEM LOCATION:

Office of Accounting and Financial Management Services, Corporation for National and Community Service, 1201 New York Avenue, NW, Washington, DC, 20525.

CATEGORIES OF INDIVIDUALS COVERED BY THE SYSTEM:

Individuals to whom the agency owes money.

CATEGORIES OF RECORDS IN THE SYSTEM:

Name of payee, address, ABA routing number, financial institution name and address, depositor account number, taxpayer identification number, amount owed, date of liability, amount paid, schedule number authorizing the U.S. Department of the Treasury to issue payment and returned or cancelled payments.

AUTHORITY FOR MAINTENANCE OF THE SYSTEM:

The Domestic Volunteer Service Act of 1973, as amended; the National and Community Service Act of 1990, as amended, and the Budget and Accounting Procedures Act of 1950, as amended; the Chief Financial Officer Act of 1990; and the Debt Collection Improvement Act of 1996.

PURPOSE(S):

To maintain a current record of amounts owed and paid by the Corporation.

ROUTINE USES OF RECORDS IN THE SYSTEM, INCLUDING CATEGORIES OF USERS AND THE PURPOSES OF SUCH USES:

See General Routine Uses contained in Preliminary Statement. Data is also released to the Internal Revenue Service in accordance with the Internal Revenue Code.

POLICIES AND PRACTICES FOR STORING, RETRIEVING, ACCESSING, RETAINING AND DISPOSING OF RECORDS IN THE SYSTEM:

STORAGE:

Records are maintained electronically, and file folders are stored in locked metal file cabinets.

Retrievability:

Hardcopy records are indexed alphabetically by name and electronic records may be accessed by name or taxpayer identification number.

Safeguards:

Records are available only to staff in the Office of Accounting and Financial Management Services and other appropriate Corporation officials with the need for such records in the performance of their duties.

Retention and Disposal:

Hardcopy records are held for three (3) years and then retired to the Federal Records Center. Electronic records are archived periodically.

System Manager(s) and Address:

Director, Office of Accounting and Financial Management Services, Corporation for National and Community Service, 1201 New York Avenue, N.W., Washington, DC, 20525.

Notification Procedure:

To determine whether there is a record in the system about individual, that individual should submit a request in writing to the Records Liaison Officer giving name, taxpayer identification number, and address.

Record Access Procedures:

See Notification procedures.

Contesting Record Procedures:

Anyone desiring to contest or amend information contained in this system should write to the Records Liaison Officer at the address given and set forth the basis for which the record is believed to be incomplete or incorrect.

Record Source Categories:

Data in this system is obtained from documents submitted by individuals covered by the system as well as documents issued by Corporation officials involved with managing and disbursing funds.

Exemption Claimed for the System:

None.

CORPORATION-2

System Name:

Momentum Financials Accounts Receivable Files.

System Location:

Office of Accounting and Financial Management Services, Corporation for National and Community Service, 1201 New York Avenue, N.W., Washington, DC, 20525.

Categories of Individuals Covered by the System.

Individuals owing money to the Corporation.

Categories of Records in the System:

Name of debtor, address, taxpayer identification number, amount owed, date of liability, and amount collected or amount forwarded to the U.S. Treasury for further collection action as mandated by DCIA of 1996.

AUTHORITY FOR MAINTENANCE OF THE SYSTEM:

The Domestic Volunteer Service Act of 1973, as amended; the National and Community Service Act of 1990, as amended; the Budget and Accounting Procedures Act of 1950, as amended, and the Debt Collection Improvement Act of 1996.

PURPOSE(S):

To maintain a current record of amounts owed and paid to the Corporation.

ROUTINE USES OF RECORDS IN THE SYSTEM, INCLUDING CATEGORIES OF USERS AND THE PURPOSES OF SUCH USES:

See General Routine Uses contained in Preliminary Statement. Data may be disclosed to the U.S. Department of Justice for litigation action; the U.S. Department of the Treasury to pursue further collection action when the Corporation is unable to collect a debt through its own efforts and/or recommended write-off; or to the General Accounting Office in connection with inquiries, audits or investigations related to the Corporation's debt activities.

POLICIES AND PRACTICES FOR STORING, RETRIEVING, ACCESSING, RETAINING AND DISPOSING OF RECORDS IN THE SYSTEM:

Storage:

Records are maintained in file folders which are stored in locked metal file cabinets.

Retrievability:

Records are indexed alphabetically by name.

Safeguards:

Records are available only to staff in the Office of Accounting and Financial Management Services, other authorized Corporation officials with the need for such records in the performance of their duties or forwarded to the U.S. Treasury for further collection action.

Retention and Disposal:

Records are held for three (3) years and then retired to the Federal Records Center.

System Manager(s) and Address:

Office of Accounting and Financial Management Services, Corporation for National and Community Service, 1201 New York Avenue, NW., Washington, DC, 20525.

Notification Procedure:

To determine whether there is a record in the system about an individual, that individual should submit a request in writing to the Records Liaison Officer giving name, taxpayer identification number, and address.

Record Access Procedures:

See Notification procedures.

Contesting Record Procedures:

Anyone desiring to contest or amend information contained in this system should write to the Records Liaison Officer and set forth the basis for which the record is believed to be incomplete or incorrect.

Record Source Categories:

Data in this system is obtained from documents submitted by individuals covered by the system as well as documents issued by Corporation officials involved with managing and collecting debts.

Exemption Claimed for the System:

None.

CORPORATION-3

System Name:

Domestic Full-time Member Census Master File.

System Location:

Corporation for National and Community Service, AmeriCorps*VISTA, 1201 New York Avenue, NW., Washington, DC 20525.

Categories of Individuals Covered by the System:

Any person who has served as a VISTA, or an AmeriCorps*VISTA member.

Categories of Records in the System:

The records maintained contain information extracted from the member's application, information about the member's period of service, and information about the member's history with the Corporation.

Authority for Maintenance of the System:

The Domestic Volunteer Service Act of 1973, as amended.

Purpose(s):

The system of records was established to maintain service histories on all former VISTA and AmeriCorps*VISTA members.

ROUTINE USES OF RECORDS MAINTAINED IN THE SYSTEM, INCLUDING CATEGORIES OF USERS AND THE PURPOSE OF SUCH USES:

See General Routine Uses contained in Preliminary Statement.

POLICIES AND PRACTICES FOR STORING, RETRIEVING, ACCESSING, RETAINING AND DISPOSING OF RECORDS IN THE SYSTEM:

Storage:

Records are stored in a locked metal cabinet in the AmeriCorps Office. Records are also stored in a temporary electronic database as the records are digitized on the Corporation's internal computer network.

Retrievability:

The member's name and/or social security number retrieves records.

Safeguards:

The material is available only to Corporation and AmeriCorps*VISTA staff. It is not available to anyone else without the express written consent from the individual to release his/her information.

Retention and Disposal:

These records are maintained permanently.

System Manager(s) and Address:

Director of AmeriCorps*VISTA, Corporation for National and Community Service, 1201 New York Avenue, NW., Washington, DC 20525.

NOTIFICATION PROCEDURE:

A former member wishing to determine if this system contains his/her record should contact the Corporation for National and Community Service, Attn: Alumni Coordinator, 1201 New York Avenue, NW., Washington, DC 20525, and provide his/her name, last four digits of social security number, and approximate dates of volunteer service.

RECORDS ACCESS PROCEDURES:

A former member wishing access to information about his/her record should contact the Corporation for National and Community Services, Attn: Alumni Coordinator, 1201 New York Avenue, NW., Washington, DC 20525.

Contesting Records Procedures:

Any former member wishing to amend information maintained in his/her electronic record may do so by addressing such request to the Corporation for National and Community Service, Attn: Privacy Act Officer, 1201 New York Avenue, NW., Washington, DC 20525.

Record Source Categories:

The data is obtained from the member's application, status change, payroll change notices, and the Alumni Interest Profile form.

Exemption Claimed for the System:

None.

CORPORATION-4

System Name:

AmeriCorps Full-time Member Personnel Files.

System Location:

All Corporation State Offices, AmeriCorps*Leaders Office at Corporation Headquarters, and NCCC Regional Campuses.

Categories of Individuals Covered by the System:

All active AmeriCorps members assigned under programs operated by the Corporation.

Categories of Records in the System:

Records maintained contain member application and reference forms, member status and payroll information, member travel vouchers, future plans forms, including evaluation of service, and general correspondence.

Authority for Maintenance of the System:

The Domestic Volunteer Service Act of 1973, as amended; the National and Community Service Act of 1990, as amended.

Purpose(s):

This system of records was established to maintain information on AmeriCorps members while they are assigned to their respective programs.

ROUTINE USES OF RECORDS MAINTAINED IN THE SYSTEM, INCLUDING CATEGORIES OF USERS AND THE PURPOSES OF SUCH USES:

The content of these records may be disclosed to the member's sponsor (VISTA) and other Corporation officials concerning placement, performance, support, and related matters for AmeriCorps members. Also, see General Routine Uses contained in Preliminary Statement.

POLICIES AND PRACTICES FOR STORING, RETRIEVING, ACCESSING, RETAINING AND DISPOSING OF RECORDS IN THE SYSTEM:

Storage:

Records are maintained in file folders which are stored in locked metal file cabinets.

Retrievability:

Records are retrievable alphabetically by last name.

Safeguards:

Records in the system are available only to appropriate Corporation staff in State Offices, the AmeriCorps*Leaders Office at Corporation Headquarters, and Regional NCCC Campuses, and other appropriate officials of the Corporation with need for such records in the performance of their duties.

Retention and Disposal:

Records are retained for one (1) year after the member has terminated and then retired to the Federal Records Center where they are maintained for six (6) years.

System Manager(s) and Address:

The System Manager for VISTAs is the State Program Director at each Corporation State Office; the Regional NCCC Campus Director at each Campus location; and the Director, AmeriCorps*Leaders at Corporation Headquarters.

Notification Procedure:

A member wishing to determine if this system contains his/her records should contact the Corporation State Office (VISTAs) for the state where he/she performed his/her service; NCCC Campus where he/she was assigned, and the AmeriCorps*Leaders Office at Corporation Headquarters.

Record Access Procedures:

A member wishing access to information about his/her records should contact the particular Corporation State Office or NCCC Regional Campus where he/she was assigned or performed his/her service, and the AmeriCorps*Leaders Office at Corporation Headquarters, and provide name, social security number, and dates and location of where the member performed his/her service.

Contesting Record Procedures:

A member wishing to amend his/her record may do so by addressing a request to the Corporation for National and Community Service, Attn: Privacy Act Officer, 1201 New York Avenue, NW., Washington, DC 20525.

Record Sources Categories:

The data is supplied by the member or through forms signed and executed by the member, or by Corporation personnel.

Exemption Claimed for the System:

None.

CORPORATION-5

System Name:

Employee and Applicant Records Files.

System Location:

Human Resources, Corporation for National and Community Service, 1201 New York Avenue, NW., Washington, DC, 20525.

Categories of Individuals Covered by the System:

Current and former employees; applicants; individuals involved in a grievance.

Categories of Records in the System:

(1) The Staff Security Files contain investigative information regarding an individual's character, conduct or behavior in the community; loyalty to the U.S. Government; arrests and convictions, interviews with former supervisors, coworkers, associates, educators, etc., about qualifications for a specific position; and inquires with law enforcement agencies, former employers, and educational institutions.

(2) The Grievance, Appeal and Arbitration Files contain copies of petitions, complaints, charges, responses, rebuttals, evidentiary materials, briefs, affidavits, statements, records of hearings and decisions or findings of fact and incidental correspondence regarding complaints and appeals.

(3) The Employees Indebtedness Files contain correspondence regarding alleged indebtedness of Corporation employees, including employees' responses, the Corporation's response to the employee and/or creditor and records relating to assistance to the employee in resolving indebtedness.

(4) The Employee Reemployment and Repromotion Priority Consideration Files list a person's name and the positions he or she was considered for, dates of consideration and a copy of the individual's latest Standard Form 171 and performance evaluation.

(5) The Performance Evaluation File consists of annual evaluations of employee performance prepared by supervisors and reviewed by supervisory reviewing officials, together with employee's comments.

(6) The Management-Union Records System consists of printouts of an employee's name, grade, series, title, or organizational entity and other data which determine inclusion or exclusion from the bargaining unit under the union contract. The printout also shows of dues withheld from each employee.

(7) The Human Resources Management Information System is a record of employees' tenure, benefits eligibility, awards, and other data used by Human Resources and Corporation managers.

(8) The Personnel History Program is a record of personnel actions made during employment, forwarding address, reason for leaving, social security number, date of birth, tenure, and information regarding date and reason for termination.

Authority for Maintenance of the System:

The Domestic Volunteer Service Act of 1973, as amended; the National and Community Service Act of 1990, as amended; provisions of the Federal Personnel Manual; Executive Orders concerning management relations with employee organizations; Executive Order 10450; and various acts of Congress relating to personnel investigations as authorized by the Office of Personnel Management.

Purpose(s):

To provide an information system which supports the Corporation's personnel management program.

Routine Uses or Records Maintained in the System, Including Categories or Users and the Purposes of Such Uses:

As indicated below, the subsystems incorporate all or some of the published routine uses.

(1) Staff Security Files—in addition to routine uses, may be disclosed to the Office of Human Resources as part of the personnel investigation records system.

(2) Grievance, Appeal and Arbitration Records and Files—in addition to routine uses, may be disclosed to (a) OPM; the Merit Systems Protection Board; and the Office of Special Counsel, on request in conjunction with an appeal or with regard to personnel investigations regarding complaints of Federal Employees and applicants; and (b) to designated hearing examiners, arbitrators and third-party appellate authorities involved in hears or appeals.

(3) Employees Indebtedness Records and Files—may be released under our routine uses numbers 1 and 2, except that under routine use number 1, records may be released to an appropriate Federal agency or referred to a court or other administrative board on matters related to probation and parole.

(4) Employee Reemployment and Repromotion Priority Consideration Records and Files—in addition to routine uses, may be disclosed to: (a) OPM as part of the OPM personnel management evaluation system; and (b) to OPM for information concerning reemployment and repromotion rights.

(5) Performance Evaluation Files—in addition to our general routine uses, may be disclosed to an OPM request for information.

(6) Management Union Records—in addition to routine uses, may be disclosed to: (a) The Corporation employees' union for dues maintenance and inclusion in the bargaining unit; (b) the Treasury Department for preparation of dues withholding; and (c) OPM for management/labor relations reports.

(7) Human Resources Management Information System—used by Corporation officials for day-to-day work information; statistical reports without personal identifiers and for in-house reports relating to management. Information contained in this record is reflected in the individual's official personnel folder.

(8) Personnel History Program—is used by the Human Resources staff to verify service and for other day-to-day information.

POLICIES AND PRACTICES FOR STORING, RETRIEVING, ACCESSING, RETAINING AND DISPOSING OF RECORDS IN THE SYSTEM:

Storage:

Records, including file folders, floppy disks, lists and loose-leaf binders, are stored in metal file cabinets with locks, or in secured rooms with access limited to employees whose duties require access. Where data is obtained via computer, controlled access is maintained through computer security control procedures.

Retrievability:

Records are indexed by name or social security number.

Safeguards:

Records are available to Corporation employees having a need in the performance of their duties. Generally, Security Files are available only to office heads or security personnel.

Retention and Disposal:

After termination, death, retirement, or consideration of an applicant, the Staff Security Files are retained three (3) years and then retired to a Federal Records Center for twenty-seven (27) years and then destroyed. The Grievances, Appeals and Arbitration Files are retained indefinitely in Human Resources. The Employee Indebtedness Files are destroyed on a bi-annual basis or when the indebtedness is resolved. The Employee Reemployment and Repromotion Priority Consideration Files are retained according to length of reemployment or repromotion eligibility. The Performance Evaluation Files are retained one year or until superseded. The Human Resources Management Information System records and the Personnel Program data are kept indefinitely in the Office of Human Resources. The Management-Union Lists are retained until superseded by a corrected or updated list.

System Manager(s) and Address:

Director, Human Resources, Corporation for National and Community Service, 1201 New York Avenue, NW., Washington, DC, 20525.

Notification Procedure:

See the Notification paragraph in the Preliminary Statement.

Record Access Procedures:

See the Notification paragraph in the Preliminary Statement.

Contesting Record Source Categories:

Same as “Record Access Procedures”.

Record Source Categories:

From the individual; the official personnel folder; statistical and other information developed by Human Resources staff, such as the enter on duty date, and within grade increase due dates; agency supervisors and reviewing officials; individual employee fiscal and payroll records; alleged creditors of employees; witnesses to occurrences giving rise to a grievance, appeal, or other action; hearing records and affidavits and other documents used or usable in connection with grievance, appeal and arbitration hearings. Information contained in the Staff Security files is obtained from: (a) Applications and other personnel and security forms furnished by the individual; (b) investigative material furnished by other Federal agencies; (c) personal investigation or written inquiry from associates, police departments, courts, credit bureaus, medical records, probation officials, prison officials, and other sources as may be developed from the above; and (d) the individual.

Exemption Claimed for the System:

None.

CORPORATION-6

System Name:

Employee/Member Occupational Injury/Illness Reports and Claim Files.

System Location:

Human Resources, Corporation for National and Community Service, 1201 New York Avenue, NW., Washington, DC, 20525.

Categories of Individuals Covered by the System:

Corporation staff and full-time volunteers.

Categories of Records in the System:

Reports of work related injuries and illnesses and claims for workers' compensation submitted to Department of Labor.

Authority for Maintenance of the System:

Federal Employees Compensation Act & Occupational Safety and Health Administration Act.

Purpose(s):

To maintain injury/illness reports and to track workers' compensation claims on behalf of Corporation staff and full-time members.

ROUTINE USES OF RECORDS MAINTAINED IN THE SYSTEM, INCLUDING CATEGORIES OF USERS AND THE PURPOSES OF SUCH USES:

To determine annual work related injury/illness data re: Corporation staff, and to identify trends, and to prepare and submit workers' compensation claims. Also, see General Routine Uses contained in Preliminary Statement.

POLICIES AND PRACTICES FOR STORING, RETRIEVING, ACCESSING, RETAINING AND DISPOSING OF RECORDS IN THE SYSTEM:

Storage:

Records are maintained in file folders which are locked in metal file cabinets.

Retrievability:

Records are maintained alphabetically by name.

Safeguards:

Records are available to claimants and Corporation staff with a job related need.

Retention and Disposal:

Official files are kept seven (7) years following year of occurrence. Disposal is by shredding.

System Manager(s) and Address:

OWCP Liaison Officer, Human Resources, Corporation for National and Community Service, 1201 New York Avenue, NW., Washington, DC, 20525.

Notification Procedure:

Claimant submits written request to the above address.

Record Access Procedures:

Requester should give OWCP claim number, but it is not mandatory. Requests may be submitted in the name of injured employee/volunteer.

Contesting Record Procedures:

Claimant or injured employee/member may submit any data deemed relevant to the case to address listed.

Record Source Categories:

Individual who suffers work related injury/illness submits any pertinent data necessary; medical reports, witness statements, time and attendance records, medical bills or legal briefs.

Exemption Claimed for the System:

None.

CORPORATION-7

System Name:

Travel Files.

System Location:

Office of Administrative and Management Services, Travel Unit; Corporation for National and Community Service, 1201 New York Avenue, NW., Washington, DC, 20525. For field offices, travel files are kept at the operational location of each Service Center Director, State Director, and NCCC Campus Director.

Categories of Individuals Covered by the System:

All Corporation Headquarters Staff, Consultants, Invitational Travelers, and all Corporation Relocated Staff.

Categories of Records in the System:

Individuals' records and special event records for Headquarters Staff, Field Staff. Travel files are located at each Corporation site.

Authority for Maintenance of the System:

The Domestic Volunteer Service Act of 1973, as amended, and the National Community Service Act of 1990, as amended.

PURPOSE(S):

To maintain travel files on all persons traveling on official Corporation business.

ROUTINE USES OF RECORDS MAINTAINED IN THE SYSTEM, INCLUDING CATEGORIES OF USERS AND THE PURPOSES OF SUCH USES:

See General Routine Uses contained in Preliminary Statement.

POLICIES AND PRACTICES FOR STORING, RETRIEVING, ACCESSING, RETAINING AND DISPOSING OF RECORDS IN THE SYSTEM:

STORAGE:

Files are maintained in individual folders in a locked metal file cabinet when not in immediate use.

Retrievability:

Individual's name in alphabetical order and Travel Authorization number.

Safeguards:

Access only to appropriate personnel and Corporation officials. The metal travel file cabinet is locked when not in use.

Retention and Disposal:

Retention three (3) years. Disposal of records is by shredding.

System Manager(s) and Address:

Travel Management Program Analyst, Office of Administrative and Management Services, Corporation for National and Community Service, 1201 New York Avenue, NW. Washington, DC 20525. For field offices, the System Manager is the Service Center Director, State Director, and NCCC Campus Director.

Notification Procedure:

Send to address listed.

Record Access Procedures:

Travel Management Program Analyst, Office of Administrative and Management Services, Corporation for National and Community Service, 1201 New York Avenue, NW., Washington, DC 20525. For field offices, the System Manager is the Service Center Director, State Director, and NCCC Campus Director.

Contesting Record Procedures:

Send to address listed.

Record Source Categories:

Submitted by Corporation employees etc.

Exemption Claimed for the System:

None.

CORPORATION-8

System Name:

AmeriCorps Member Individual Accounts.

System Location:

Corporation for National and Community Service, National Service Trust Operations, 1201 New York Avenue, NW., Washington DC 20525.

Categories of Individuals Covered by the System:

Any person who has served or is serving as a member or other full-time, stipended member under a Corporation program.

Categories of Records in the System:

The records maintained contain information extracted from the application, information about the period of service, and information about the member's service history.

Authority for Maintenance of the System:

The Domestic Volunteer Service Act of 1973, as amended, and the National and Community Service Act of 1990, as amended.

Purpose(s):

The system of records was established to maintain service histories on all current, former, and other full-time stipend volunteers serving in the Corporation programs and earning an education award.

ROUTINE USES OF RECORDS MAINTAINED IN THE SYSTEM, INCLUDING CATEGORIES OF USERS AND THE PURPOSE OF SUCH USES:

See General Routine Uses contained in Preliminary Statement.

POLICIES AND PRACTICES FOR STORING, RETRIEVING, ACCESSING, RETAINING AND DISPOSING OF RECORDS IN THE SYSTEM:

Storage:

Records are stored on magnetic tape, disks, electronic image, hard copy, and are kept in a locked room when not in use.

Retrievability:

Records are retrieved by social security number.

Safeguards:

The material on tapes and disks is generally available only to the Corporation's Office of Information Technology and Accounting staff, and is so coded as to be unavailable to anyone else. Hard copy records are available only to Corporation staff with a need for such records in the performance of their duties.

Retention and Disposal:

These records are maintained for a period of (7) seven years from date the volunteer earns an education award and then forwarded to the Federal Records Center for (3) three years. Electronically imaged documents will be maintained permanently.

System Manager(s) and Address:

Director, National Service Trust Operations, Corporation for National and Community Service, 1201 New York Avenue, NW., Washington, DC 20525.

Notification Procedure:

A person wishing to determine if this system contains his/her records should contact the Corporation for National and Community Service, Director, National Service Trust Operations, 1201 New York Avenue, NW., Washington, DC 20525, and provide name, social security number, and dates of volunteer service.

Records Access Procedures:

A person wishing access to information about their records should contact the Corporation for National and Community Services, Director, National Service Trust Operations, 1201 New York Avenue, NW., Washington, DC 20525.

Contesting Record Procedures:

A person wishing to amend his/her record may do so by addressing such request to the Corporation for National and Community Service, Attn: Privacy Act Officer, 1201 New York Avenue, NW., Washington, DC 20525.

Record Source Categories:

The data is obtained from enrollment and exit forms.

Exemption Claimed for the System:

None.

CORPORATION-9

System Name:

Counselors' Report Files.

System Location:

Equal Opportunity Office, Corporation for National and Community Service, 1201 New York, Avenue, NW., Washington, DC 20525.

CATEGORIES OF INDIVIDUALS COVERED BY THE SYSTEM:

Any employee or applicant for employment, service member, or applicant or trainee for volunteer or service status, or employee of a grantee who has contacted or requested a Corporation Equal Opportunity Counselor for counseling, but has not filed a formal discrimination complaint.

CATEGORIES OF RECORDS IN THE SYSTEM:

Counselors' Reports, Privacy Act notice, confidentiality agreement, notice to members of collective bargaining agreement, notice of final interview, notes and correspondence, and copies of personnel records or other documents relevant to the matter presented to the Counselor, and any other records relating to the counseling instance.

Authority for Maintenance of the System:

Titles VI and VII of the Civil Rights Act of 1964, as amended; Age Discrimination in Employment Act, as amended; Rehabilitation Act of 1973, as amended; Title IX of the Education Amendments of 1972, as amended; Domestic Volunteer Service Act of 1973, as amended; National and Community Service Act of 1990, as amended; and the Age Discrimination Act, as amended.

Purpose(s):

To enable Equal Opportunity Counselors to look into matters brought to their attention, provide counseling, attempt to resolve the matter, and document actions taken.

Routine Uses or Records Maintained in the System, Including Categories of Users and the Purpose of Such Uses:

1. Referral or disclosure: (a) To a Federal, state, or local agency charged with the responsibility of investigating, enforcing, or implementing the statute, rule, regulation, or order; (b) to an investigator, Counselor, grantee or other recipient of Federal financial assistance, or hearing officer or arbitrator charged with the above responsibilities; (c) any and all appropriate and necessary uses of such records in a court of law or before an administrative board or hearing; and (d) such other referrals as may be necessary to carry out the enforcement and implementation of the statutes, rules, regulations, or orders.

2. Disclosure to the Congressional committees having legislative jurisdiction over the program involved, including when actions are proposed to be undertaken by suspending or terminating or refusing to grant or to continue Federal financial assistance for violation of the statutes, rules, regulations, or orders for recipients of Federal financial assistance from the Corporation.

3. Disclosure to any source, either private or governmental, to the extent necessary to secure from source information relevant to, and sought in furtherance of, a legitimate investigation or EO counseling matter.

4. Disclosure to a contractor, grantee or other recipient of Federal financial assistance, when the record to be released reflects serious inadequacies with the recipient's personnel, and disclosure of the record is for the purpose of permitting the recipient to effect corrective action in the Government's best interests.

5. Disclosure to any party pursuant to the receipt of a valid subpoena.

6. Disclosure during the course of presenting evidence to a court magistrate or administrative tribunal of appropriate jurisdiction and such disclosure may include disclosure to opposing counsel in the course of settlement negotiations.

7. Disclosure to a member of Congress submitting a request involving an individual who is a constituent of such member who has requested assistance from the member with respect to the subject matter of the record.

8. Information in any system of records may be used as a data source, for management information, for the production of summary descriptive statistics and analytical studies in support of the function for which the records are collected and maintained, or for related personnel management functions or manpower studies. Information may also be disclosed to respond to general requests for statistical information (without personal identification of individuals) under the Freedom of Information Act.

9. Information in any system of records to be disclosed to a Congressional office, in response to an inquiry from any such office, made at the request of the individual to whom the record pertains.

10. A record from any system of records may be disclosed as a routine use of the National Archives and Records Administration, in records management inspection conducted under authority of 44 U.S.C. 209 and 290.

11. Referral to Federal, state, local and professional licensing authorities when the record to be released reflects on the moral, educational, or vocational qualifications of an individual seeking to be licensed.

12. Disclosure to the Office of Government Ethics (OGE) for any purpose consistent with OGE's mission, including the compilation of statistical data.

Note: The Agency-wide statement of general routine uses does not apply to this system of records.

POLICIES AND PRACTICES FOR STORING, RETRIEVING, ACCESSING, RETAINING AND DISPOSING OF RECORDS IN THE SYSTEM:

STORAGE:

Files are maintained in folders or computer diskettes and locked in metal file cabinets when not in immediate use.

Retrievability:

Retrievability is by the name of the person who contacted the Counselor.

Safeguards:

Records in the system are available only to appropriate personnel in the Office of Equal Opportunity and other designated officials of the Corporation with a need for such records in the performance of their duties.

Retention and Disposal:

Two (2) years after completion of counseling, the files are destroyed.

System Manager(s) and Address:

Director, Equal Opportunity, Corporation for National and Community Service, 1201 New York Avenue, NW., Washington, DC 20525.

Notification Procedure:

Request by individuals on whether a record is maintained about himself or herself should be addressed to the System Manager.

Record Access Procedures:

Request for access to these records should be addressed to the System Manager.

Contesting Record Procedures:

Contest to information included in these records should be addressed to the System Manager.

Record Source Categories:

Data in this system is obtained from the following categories of sources: (1) Aggrieved persons, witnesses, etc., in counseling matters; (2) Counselors' Reports; (3) Copies of documents relevant to any counseling matter; and (4) Correspondence.

Exemption Claimed for the System:

None.

CORPORATION-10

System Name:

Discrimination Complaint Files.

System Location:

Equal Opportunity Office, Corporation for National and Community Service, 1201 New York Avenue, NW., Washington DC, 20525.

Categories of Individuals Covered by the System:

Any employee or applicant for employment, AmeriCorps member or applicant or trainee for volunteer or service status, or employee of a grantee, or program beneficiary who has filed a formal complaint with, or against, the Corporation.

CATEGORIES OF RECORDS IN THE SYSTEM:

Formal complaints, Reports of Investigation, Counseling documents, case decisions, and relevant correspondence, including settlement agreements.

AUTHORITY FOR MAINTENANCE OF THE SYSTEM:

Titles VI and VII of the Civil Rights Act of 1964, as amended; the Age Discrimination in Employment Act, as amended; the Rehabilitation Act of 1973, as amended; Title IX of the Education Amendments of 1972, as amended; the Domestic Volunteer Service Act of 1973, as amended; the National and Community Service Act of 1990, as amended; and the Age Discrimination Act, as amended.

PURPOSE(S):

To enable the Corporation to investigate and adjudicate complaints of discrimination.

ROUTINE USES OF RECORDS MAINTAINED IN THE SYSTEM, INCLUDING CATEGORIES OF USERS AND THE PURPOSES OF SUCH USES:

1. Referral or disclosure: (a) To a Federal, state, or local agency charged with the responsibility of investigating, enforcing, or implementing the statute, rule, regulation, or order; (b) to an investigator, counselor, grantee or other recipient of Federal financial assistance or hearing officer or arbitrator charged with the above responsibilities; (c) any and all appropriate and necessary uses of such records in a court of law or before an administrative board or hearing; and (d) such other referrals as may be necessary to carry out the enforcement and implementation of the statutes, rules, regulations, or orders.

2. Disclosure to the Congressional committees having legislative oversight over the program involved, including when actions are proposed to be undertaken by suspending or terminating or refusing to grant or to continue Federal financial assistance for violation of the statutes, rules, regulations, or orders for recipients of Federal financial assistance from the Corporation.

3. Disclosure to any source, either private or governmental, to the extent necessary to secure from source information relevant to, and sought in furtherance of, a legitimate investigation or EO counseling matter.

4. Disclosure to a contractor, grantee or other recipient of Federal financial assistance, when the record to be released reflects serious inadequacies with the recipient's personnel, and disclosure of the record is for the purpose of permitting the recipient to effect corrective action in the Government's best interests.

5. Disclosure to any party pursuant to the receipt of a valid subpoena.

6. Disclosure during the course of presenting evidence to a court, magistrate or administrative tribunal of appropriate jurisdiction and such disclosure may include disclosures to opposing counsel in the course settlement negotiations.

7. Disclosure to a member of Congress submitting a request involving an individual who has requested assistance from the member with respect to the subject matter of the record.

8. Information in any system of records may be used as a data source, for management information, for the production of summary descriptive statistics and analytical studies in support of the function for which the records are collected and maintained, or for related personnel management functions or manpower studies. Information may also be disclosed to respond to general requests for statistical information (without personal identification of individuals) under the Freedom of Information Act.

9. A record from any system of records may be disclosed as a routine use of the National Archives and Records Administration, in records management inspections conducted under authority of 44 U.S.C. 2094 and 2906.

10. Referral to Federal, state, local and professional licensing authorities when the record to be released reflects on the moral, educational, or vocational qualifications of an individual seeking to be licensed.

11. Disclosure to the Office of Government Ethics (OGE) for any purpose consistent with OGE's mission, including the compilation of statistical data.

Note: The Agency-wide statement of general routine uses does not apply to this system of records.

POLICIES AND PRACTICES FOR STORING, RETRIEVING, ACCESSING, RETAINING AND DISPOSING OF RECORDS IN THE SYSTEM:

STORAGE:

Files are maintained in folders or on computer diskettes which are locked in metal file cabinets when not in immediate use.

RETRIEVABILITY:

Files are retrieved by the complainant's name.

SAFEGUARDS:

Records in the system of records are available only to appropriate personnel in Equal Opportunity and other designated officials of the Corporation with a need of such records in the performance of their duties.

RETENTION AND DISPOSAL:

Records are destroyed four (4) years after the close of the case.

SYSTEM MANAGER(S) AND ADDRESS:

Director, Equal Opportunity, Corporation for National and Community Service, 1201 New York Avenue, NW., Washington, DC., 20525.

NOTIFICATION PROCEDURE:

Request by individuals on whether a record is maintained about himself or herself should be addressed to the System Manager.

RECORD ACCESS PROCEDURES:

Request for access to these records should be sent to the System Manager.

CONTESTING RECORD PROCEDURES:

Contest of information included in these records should be sent to the System Manger.

RECORD SOURCE CATEGORIES:

Data in this system is obtained from the following categories of sources: (1) Complainants, witnesses, etc., in discrimination complaints; (2) Reports of investigations and Counselors' Reports; (3) Copies of documents relevant to any EO investigation; (4) Records of hearings on complaint; and (5) Correspondence.

EXEMPTION CLAIMED FOR THE SYSTEM:

None.

CORPORATION-11

SYSTEM NAME:

Employee Pay and Leave Record Files.

System Location:

Human Resources, Corporation for National and Community Service, 1201 New York Avenue, NW., Washington, DC, 20525.

Categories Of Individuals Covered by the System:

Corporation employees and former employees.

Categories of Records in the System:

Personnel actions including appointment, promotion and termination actions; savings bond applications; allotments; IRS tax withholdings, employment applications, and records regarding collections for overpayments; and time and attendance records.

Authority for Maintenance of the System:

GAO Policy and Procedures Manual; 31 U.S.C. 66(a); and the Budget and Accounting Procedures Act of 1950, as amended.

Purpose(S):

To provide a system whereby Corporation employees can track payroll and leave information.

ROUTINE USES OF RECORDS MAINTAINED IN THE SYSTEM, INCLUDING CATEGORIES OF USERS AND THE PURPOSES OF SUCH USES:

Information from these records is routinely provided: (1) To the U.S. Department of Treasury for payroll and savings bonds and other deduction purposes; (2) to the Internal Revenue Service for tax deductions; and (3) to participating insurance companies holding policies with respect to employees of the Corporation. Also, see General Routine Uses contained in Preliminary Statement.

POLICIES AND PRACTICES FOR STORING, RETRIEVING, ACCESSING, RETAINING AND DISPOSING OF RECORDS IN THE SYSTEM:

Storage:

Records are maintained in file folders in locked metal file cabinets. Individual Time and Attendance records maintained by designated agency timekeepers are stored in locked metal file cabinets.

Retrievability:

Records are by name in alphabetical order.

Safeguards:

Records are available to Corporation employees with a job related need.

Retention and Disposal:

Records are maintained for three (3) years after the end of the fiscal year in which an employee terminates employment and then retired to the Federal Records Center in accordance with General Accounting Office instructions.

System Manager(S) and Address:

Payroll Supervisor, Corporation for National and Community Service, Human Resources, 1201 New York Avenue, NW., Washington, DC, 20525.

Notification Procedure:

See the Notification paragraph in the Preliminary Statement.

Record Access Procedures:

See the Access and Contest paragraph in the Preliminary Statement.

Contesting Record Procedures:

See the Access and Contest paragraph in the Preliminary Statement.

Record Source Categories:

Corporation employee to whom the record pertains.

Exemption Claimed for the System:

None.

CORPORATION-12

System Name:

Freedom of Information Act and Privacy Act Request Files.

System Location:

Office of the Freedom of Information Act (FOIA)/Privacy Act (PA) Officer, Corporation for National and Community Service, 1201 New York Avenue, NW., Washington, DC, 20525.

Categories of Individuals Covered by the System:

Persons who have submitted FOIA/PA requests.

Categories of Records in the System:

Formal requests (FOIA/PA), research data, written decisions, and relevant correspondence, including final responses to the requesters.

Authority for Maintenance of the System:

The Freedom of Information Act of 1966, as amended, and the Privacy Act of 1974, as amended.

Purpose(S):

To maintain files of FOIA/PA requests and the Corporation's responses.

Routine Uses of Records Maintained in the System, Including Categories of Users and the Purposes of Such Uses:

See General Routine Uses contained in Preliminary Statement.

Policies and Practices for Storing, Retrieving, Accessing, Retaining and Disposing of Records in the System:

Storage:

Records are maintained in file folders which are stored in locked metal file cabinets. Computerized files are maintained on the Corporation FOIA/PA Officer's computer.

Retrievability:

Records are indexed by number and by year.

Safeguards:

Records in the system are available only to the Corporation FOIA/Privacy Act Officer or those officials authorized by the Corporation FOIA/Privacy Act Officer with a need for access of such records in the performance of their duties.

Retention and Disposal:

Records concerning requests and appeals are destroyed three (3) years after initial request.

System Manager(s) and Address:

Corporation FOIA/Privacy Act Officer, Corporation for National and Community Service, 1201 New York Avenue, NW., Washington, DC 20525.

Notification Procedure:

See Notification paragraph in the Preliminary Statement.

Record Access Procedures:

See Access and Consent paragraph in the Preliminary Statement.

Contesting Record Procedures:

See Access and Contest paragraph in the Preliminary Statement.

Record Source Categories:

Data in this system is obtained from documents submitted by individuals engaging in official FOIA/PA requests as well as from responses issued by officials of the Corporation.

Exemption Claimed for the System:

None.

CORPORATION-13

System Name:

Legal Office Litigation/Correspondence Files.

System Location:

Office of the General Counsel, Corporation for National and Community Service, 1201 New York Avenue, NW., Washington, DC 20525.

Categories of Individuals Covered by the System:

Individuals involved in litigation which requires General Counsel action.

Categories of Records in the System:

Statements; affidavits/declarations; investigatory and administrative reports; personnel, financial, medical and business records; discovery and discovery responses; motions; orders, rulings; letters; messages; forms; reports; surveys; audits; summons; English translations of foreign documents; photographs; legal opinions; subpoenas; pleadings; memos; related correspondence; briefs; petitions; court records involving litigation; and related matters.

Authority for Maintenance of the System:

These records are maintained under general authority of the Office of the General Counsel to represent the Corporation in connection with its dealings with its employees, and the general functions of the Office of the General Counsel to provide advice and counsel to the Chief Executive Officer of the Corporation and his or her staff.

Purpose(s):

To maintain files relating to litigation matters involving the Corporation.

Routine Uses of Records Maintained in the System, Including Categories of Users and the Purposes of Such Uses:

To prepare correspondence and materials for litigation.

Policies and Practices for Storing, Retrieving, Accessing, Retaining and Disposing of Records in the System:

Storage:

Records are maintained in file folders which are stored in locked metal file cabinets. Computerized files are maintained on employee computers.

Retrievability:

Name of individual and the year litigation commenced.

Safeguards:

Records are available only to employees assigned to the General Counsel Office or those officials authorized by the General Counsel with a need of such records in the performance of their duties.

Retention and Disposal:

Records will be maintained in the Office of the General Counsel for one (1) year after case closure. Records will then be sent to the Federal Records Center where they will be destroyed after ten (10) years.

System Manager(s) and Address:

General Counsel, Corporation for National and Community Service, 1201 New York Avenue, NW., Washington, DC 20525.

Notification Procedure:

Employees wishing to determine if this system contains records relating to them should contact the Corporation for National and Community Service, General Counsel Office, 1201 New York Avenue, NW., Washington, DC 20525.

Record Access Procedures:

Litigation files are not subject to access. Other files may be accessed in accordance with agency-wide regulations.

Contesting Record Procedures:

Contest of information included in these records should be sent to the System Manager.

Record Source Categories:

Data is obtained from the following categories of sources: (1) Corporation employees; (2) Correspondence and reports from persons and agencies dealing with the agency and its employees; (3) Work product and research by lawyers of the office; and (4) Court records.

Exemption Claimed for the System:

Any information compiled in reasonable anticipation of a civil action or proceeding. 5 U.S.C. 552a(d)(5).

CORPORATION-14

System Name:

Merit Promotion Plan Files.

System Location:

Human Resources, Corporation for National and Community Service, 1201 New York Avenue, NW., Washington, DC 20525.

Categories of Individuals Covered by the System:

Applicants for employment with the Corporation.

Categories of Records in the System:

These files contain copies of applications for employment (SF-612 or resumes) submitted by applicants and other background information regarding qualifications of the applicant for positions in the Corporation.

Authority for Maintenance of the System:

The Domestic Volunteer Service Act of 1973, as amended, and the National Community Service Act of 1990, as amended.

Purpose(s):

To provide documentation necessary to support the Corporation's merit selection process.

Routine Uses of Records Maintained in the System, Including Categories of Users and the Purposes of Such Uses:

The contents of these files are used as follows: (1) To Human Resources regarding suitability or qualifications of an applicant for employment; and (2) to any source which requests information in the course of an inquiry regarding the qualifications of an applicant to identify the individual, inform the source of the nature and purpose of the inquiry, and to identify the type of information requested. Also, see General Routine Uses contained in Preliminary Statement.

Policies and Practices for Storing, Retrieving, Accessing, Retaining and Disposing of Records in the System:

Storage:

Records are maintained in file folders in locked metal file cabinets.

Retrievability:

Records are indexed by vacancy announcement number.

Safeguards:

Records are available to Corporation employees with a job related need.

Retention and Disposal:

Records are destroyed when applications are two (2) years old. Applications which resulted in appointment are filed in the Official Personnel Folder and subsequently retired to the Federal Records Center, St. Louis, Missouri.

System Manager(s) and Address:

Director, Human Resources, Corporation for National and Community Service, 1201 New York Avenue, N.W., Washington, D.C., 20525.

Notification Procedure:

See the Notification paragraph in the Preliminary Statement.

Record Access Procedures:

See the Access and Contest paragraph in the Preliminary Statement.

Contesting Record Categories:

Same as Record Access Procedures category.

Record Source Categories:

Information is obtained from the following categories of sources: applications and other personnel forms furnished by the individual; written references from sources disclosed by the applicant, such as, employers and schools.

Exemption Claimed for the System:

None.

CORPORATION-15

System Name:

Office of the Inspector General Investigative Files.

System Location:

Office of the Inspector General, Corporation for National and Community Service, 1201 New York Avenue, N.W., Washington, D.C., 20525.

Categories of Individuals Covered by the System:

Subjects, complainants, and witnesses of investigations, complaints, or other matters, including (but not necessarily limited to) former and present Corporation employees; former and present Corporation grant recipients, applicants, consultants, contractors and subcontractors and their employees; and other parties doing business or proposing to conduct business with the Corporation or its recipients, contractors and subcontractors.

Categories of Records in the System:

All correspondence relevant to the investigation; all internal staff memoranda; information provided by subjects, witnesses, and governmental investigatory or law enforcement organizations; copies of all subpoenas issued during the investigation; affidavits, statements from witnesses, memoranda of interviews, transcripts of testimony taken in the investigation and accompanying exhibits; documents and records or copies obtained during the investigation; working papers of the staff, investigative notes, and other documents and records relating to the investigation; information about criminal, civil, or administrative referrals; and opening reports, progress reports, and closing reports, with recommendations for corrective action.

Authority for Maintenance of the System:

The Inspector General Act of 1978, as amended, 5 U.S.C. app. 3.

Purpose(s):

To maintain files of investigative and reporting activities carried out by the Office of the Inspector General.

ROUTINE USES OF RECORDS MAINTAINED IN THE SYSTEM, INCLUDING CATEGORIES OF USERS AND THE PURPOSES OF SUCH USES:

1. Referral to Federal, state, local and foreign investigative or prospective authorities. A record in the system of records, which indicates either by itself or in combination with other information within the Corporation's possession, a violation or potential violation of law, whether civil, criminal or regulatory and whether arising by general statute or particular program statute, or by regulation, rule or order issued pursuant thereto, may be disclosed, as a routine use, to the appropriate Federal, foreign, state or local agency or professional organization charged with the responsibility of investigating or prosecuting such violation or charged with enforcing or implementing or investigating or prosecuting such violation or charged with enforcing or implementing the statue or rule, regulation or order issued pursuant thereto.

2. Disclosure to a Federal or state grand jury agent pursuant to a Federal or state grand jury subpoena or prosecution request that such record be released for the purpose of its introduction to a grand jury.

3. Referral to suspension/debarment authorities, internal to the Corporation, when the record released is germane to a determination of the propriety of, or necessity for, a suspension or debarment action.

4. Referral to Federal, state, local and professional licensing authorities when the record to be released reflects on the moral, educational, or vocational qualifications of an individual holding a license or seeking to be licensed.

5. Disclosure to a contractor, grantee, or subgrantee or other recipient of Federal funds, when the record to be released reflects serious inadequacies with the recipient's personnel, and disclosure of the record is for the purpose of permitting the recipient to effect corrective action in the Government's best interest.

6. Disclosure to a contractor, grantee, or subgrantee or other recipient of Federal funds, when the recipient has incurred an indebtedness to the Government through its receipt of Government funds, and release of the record is for the purpose of allowing the debtor to effect a collection against a third party.

7. Disclosure to any source, either private or governmental, to the extent necessary to secure from such source information relevant to, and sought in furtherance of, a legitimate investigation or audit.

8. Disclosure to a domestic, foreign or international governmental agency considering personnel or other internal actions, such as assignment, hiring, promotion, or retention of an individual, issuance of a security clearance, reporting an investigation of an individual, award or other benefit, to the extent that the information is relevant to such agency's decision on the matter.

9. Disclosure to the Office of Government Ethics (OGE) for any purpose consistent with OGE's mission, including the compilation of statistical data, or the mission of the OIG.

10. Disclosure to a Board of Contract Appeals, the General Accounting Office or other tribunal hearing a bid protest involving a Corporation or OIG procurement.

11. Disclosure to a domestic, foreign or international government law enforcement agency maintaining civil, criminal or other relevant enforcement information, or other pertinent information, in order that the OIG may obtain information relevant to a decision concerning the assignment, hiring, promotion, or retention of an individual, the issuance of a security clearance, the letting of a contract, or the issuance of a license, grant, or other benefit.

12. Disclosure to the Department of Justice in order to obtain the Department's advice regarding OIG's obligations under the Freedom of Information Act.

13. Disclosure to the Office of Management and Budget (OMB) in order to obtain OMB's advice regarding OIG's obligations under the Privacy Act.

14. Disclosure to a member of Congress making a request at the behest of a party protected under the Privacy Act, when the member of Congress informs the appropriate official that the individual to whom the record pertains has authorized the member of Congress to have access.

15. Disclosure to any Federal agency pursuant to the receipt of a valid subpoena.

16. Disclosure to the U.S. Department of the Treasury or the U.S. Department of Justice when the Corporation or the OIG is seeking to obtain taxpayer information from the Internal Revenue Service.

17. Disclosure to debt collection contractors for the purpose of collecting delinquent debts as authorized by the Debt Collection Improvement Act of 1996 (31 U.S.C. 3713).

18. Disclosure to a “consumer reporting agency” as that term is defined in the Fair Credit Reporting Act (15 U.S.C. 1681a(f)), and the Federal Claims Collection Act of 1966 (31 U.S.C. 3701 (a)(3)), in order to obtain information in the course of an investigation or audit.

19. Disclosure to Corporation or OIG counsel, an administrative hearing tribunal, or counsel to the adverse party, in Program Fraud Civil Remedies Act or other litigation.

20. Disclosure to a Federal, State, or local agency for use in computer matching programs to prevent and detect fraud and abuse in benefit or other programs, to support civil and criminal law enforcement activities of those agencies and their components, and to collect debts and overpayments owed to those agencies and their components.

21. Disclosure to any court, magistrate or administrative authority during the course of any litigation or settlement negotiations in which the Corporation is a party or has an interest. A record in the system of records may be disclosed in a proceeding before a court or adjudicative body before which the Corporation or the OIG is authorized to appear, or in the course of settlement negotiations involving—

(1) OIG, the Corporation, or any component thereof;

(2) Any employee of the OIG or the Corporation in his or her official capacity;

(3) Any employee of the Corporation in his or her individual capacity, where the Government has agreed to represent the employee; or

(4) The United States, where the OIG determines that the litigation is likely to affect the OIG or the Corporation or any of its components.

22. Disclosure to OIG's or the Corporation's legal representative, including the U.S. Department of Justice and other outside legal counsel, when the OIG or the Corporation is a party in actual or anticipated litigation or has an interest in such litigation.

POLICIES AND PRACTICES FOR STORING, RETRIEVING, ACCESSING, RETAINING AND DISPOSING OF RECORDS IN THE SYSTEM:

STORAGE:

The Office of the Inspector General Investigative Files consist of paper records maintained in folders and an automated data base maintained on computer diskettes. The folders and diskettes are stored in locked metal file cabinets. The file cabinets are located in the Office of the Inspector General.

RETRIEVABILITY:

The records are retrieved by a unique control number assigned to each investigation.

SAFEGUARD:

Records in the system are available only to those persons whose duties require such access. The records are kept in limited access areas during duty hours and in locked file cabinets in a locked office at all other times.

RETENTION AND DISPOSAL:

Records will be held in the office pursuant to General Records Schedule 22, June 1988, and will be destroyed by shredding or burning when no longer needed.

SYSTEM MANAGER(S) AND ADDRESS:

Inspector General, Office of the Inspector General, Corporation for National and Community Service, 1201 New York Avenue, NW., Washington, DC 20525.

NOTIFICATION PROCEDURE:

To determine whether this system of records contains a record pertaining to the requesting individual, the individual should write to the System Manager furnishing his or her name, address, telephone number, and social security number.

Record Access Procedures:

See Notification Procedures.

Contesting Record Procedures:

Individuals desiring to contest or amend information maintained in this system of records should write to the System Manager, setting forth the basis for which the individual believes the record is incomplete, irrelevant, incorrect or untimely.

Record Source Categories:

Information in this system of records is obtained from: Corporation staff and official Corporation records; current and former employees, contractors, grantees and their employees; subgrantees and their employees; AmeriCorps members or former members in Corporation-funded programs; and non-Corporation persons. Individuals to be interviewed and records to be examined are selected based on the nature of the allegations being investigated.

Exemption Claimed for the System:

The Office of Inspector General published exemptions under 5 U.S.C. 552a(j) and (k).

CORPORATION-16

System Name:

Travel Authorization Files.

System Location:

Office of Accounting and Financial Management Services, Corporation for National and Community Service, 1201 New York Avenue, NW., Washington, DC, 20525.

Categories of Individuals Covered by the System:

Corporation employees or any other person invited to travel at the expense of the Corporation.

Categories of Records in the System:

The records consist of travel authorizations, vouchers, receipts, payment records, and other materials related to official travel.

Authority for Maintenance of The System:

The Domestic Volunteer Service Act of 1973, as amended; the National and Community Service Act of 1990, as amended, and the Budget and Accounting Procedures Act of 1950, as amended.

Purpose(s):

To record and manage the payment of expenses for official travel.

Routine Uses of Records Maintained in the System, Including Categories of Users and The Purposes of Such Uses:

See General Routine Uses contained in Preliminary Statement.

POLICIES AND PRACTICES FOR STORING, RETRIEVING, ACCESSING, RETAINING AND DISPOSING OF RECORDS IN THE SYSTEM:

Storage:

Records are maintained in file folders in locked metal file cabinets.

Retrievability:

Records are indexed alphabetically by name.

Safeguards:

Records are available only to staff in the Office of Accounting and Financial Management Services, and other appropriate Corporation officials with the need for such records in the performance of their duties.

Retention and Disposal:

Records are held for three (3) years and then retired to the Federal Records Center.

System Manager(s) and Address:

Director, Office of Accounting and Financial Management Services, Corporation for National and Community Service, 1201 New York Avenue NW., Washington, DC 20525.

Notification Procedure:

To determine whether there is a record in the system about an individual, that individual should submit a request in writing to the System Manager giving name, taxpayer identification number, and address.

Record Access Procedures:

See Notification procedures.

Contesting Record Procedures:

Anyone desiring to contest or amend information contained in this system should write to the System Manager and set forth the basis for which the record is believed to be incomplete or incorrect.

Record Source Categories:

Data in this system is obtained from documents submitted by individuals engaging in official travel as well as documents issued by the Corporation officials involved with authorizing and managing travel.

Exemption Claimed for the System:

None.

CORPORATION-17

System Name:

Momentum Financials Vendor Files.

SYSTEM LOCATION:

Office of Accounting and Financial Management Services, Corporation for National and Community Service, 1201 New York Avenue, NW., Washington, DC, 20525.

CATEGORIES OF INDIVIDUALS COVERED BY THE SYSTEM:

All individuals with whom the Corporation does business.

CATEGORIES OF RECORDS IN THE SYSTEM:

The data recorded includes the name and address of the entity doing business with the Corporation, ABA routing number, financial institution name and address, depositor account number and the taxpayer identification number; e.g., the SSN of an individual and the TIN of an organization.

Authority for Maintenance of the System:

The Domestic Volunteer Service Act of 1973, as amended; the National and Community Service Act of 1990, as amended, and the Budget and Accounting Procedures Act of 1950, as amended.

Purpose(s):

To maintain a single registry of entities with which the agency does business.

Routine Uses of Records Maintained in the System, Including Categories of Users and the Purposes of Such Uses:

Data is shared with the Department of Health and Human Services in the servicing of Corporation grant recipients; data may be disclosed to the U.S. Department of Justice, the U.S. Department of Treasury or the General Accounting Office in connection with debt servicing activities or to the Internal Revenue Service in the reporting of disbursements as required by the Internal Revenue Code. Also, see General Routine Uses contained in Preliminary Statement.

POLICIES AND PRACTICES FOR STORING, RETRIEVING, ACCESSING, RETAINING AND DISPOSING OF RECORDS IN THE SYSTEM:

Storage:

Data is stored on magnetic media in a computer system with access controlled by a security system that requires passwords and identification of each user.

Retrievability:

Data can be retrieved from the system electronically by name or TIN.

Safeguards:

Access to data stored on magnetic media is controlled by a security system that requires password and identification of each user.

Retention and Disposal:

Records are held for three (3) years and then retired to the Federal Records Center.

System Manager(s) and Address:

Director, Office of Accounting and Financial Management Services, Corporation for National and Community Service, 1201 New York Avenue, NW., Washington, DC, 20525.

Notification Procedure:

To determine whether there is a record in the system of records about an individual, that individual should submit a request in writing to the System Manager giving name, taxpayer identification number, and address.

Record Access Procedures:

See Notification procedures.

Contesting Record Procedures:

Anyone desiring to contest or amend information contained in this system should write to the System Manager and set forth the basis for which the record is believed to be incomplete or incorrect.

Record Source Categories:

Data in this system is obtained from documents submitted by individuals covered by the system as well as documents issued by the Corporation officials involved with managing funds.

Exemption Claimed For the System:

None.

CORPORATION-18

System Name:

AmeriCorps*VISTA Volunteer Management System Files.

System Location:

Office of Accounting and Financial Management Services, AmeriCorps*VISTA Payroll Office, Corporation for National and Community Service, 1201 New York Avenue, NW., Washington, DC, 20525.

CATEGORIES OF INDIVIDUALS COVERED BY THE SYSTEM:

Current and former AmeriCorps*VISTA members.

CATEGORIES OF RECORDS IN THE SYSTEM:

Records include name, address, social security number, data concerning the individual's sex, marital status, skills, service as an AmeriCorps*VISTA member, including dates served and projects served, amounts paid to the member while serving, amounts overpaid, and repayment records of such overpayment.

AUTHORITY FOR MAINTENANCE OF THE SYSTEM:

The Domestic Volunteer Service of 1973, as amended, and the Budget and Accounting Procedures Act of 1950, as amended.

PURPOSE(S):

To record payments and allowances to AmeriCorps*VISTA members.

Routine Uses of Records Maintained in the System, Including Categories of Users and the Purposes of Such Uses:

See General Routine Uses contained in Preliminary Statement. Information is also disclosed to the Social Security Administration and the Internal Revenue Service about the funds paid to comply with legal requirements that enable these agencies to perform their functions. Data from the system is also disclosed to the Financial Management Service of the U.S. Department of the Treasury to enable payments to be made.

POLICIES AND PRACTICES FOR STORING, RETRIEVING, ACCESSING, RETAINING AND DISPOSING OF RECORDS IN THE SYSTEM:

Storage:

Manual data is stored alphabetically in locked filing cabinets that are kept in a room that is only used for storing such materials. That room is kept locked except when employees who work with the AmeriCorps*VISTA member payroll system are using the data. Access by all other individuals is not allowed. Data is also stored on magnetic media in a computer system with access controlled by a security system that requires passwords and identification of each user.

Retrievability:

Data can be retrieved by individual name for manual records or by social security number for automated records.

Safeguards:

The storage room is kept locked except when employees who work with the AmeriCorps*VISTA member payroll system are using the data. Access by all other individuals is not allowed. Access to data stored on magnetic media is controlled by a security system that requires passwords and identification of each user.

Retention and Disposal:

Records are held for three (3) years and then retired to the Federal Records Center.

System Manager(s) and Address:

Director, Office of Accounting and Financial Management Services, Corporation for National and Community Service, 1201 New York Avenue, NW., Washington, DC 20525.

Notification Procedure:

To determine whether there is a record in the system of records about an individual, that individual should submit a request in writing to the System Manager giving name, taxpayer identification number, and address.

Record Access Procedures:

See Notification procedure.

Contesting Record Procedures:

Anyone desiring to contest or amend information contained in this system should write to the System Manager and set forth the basis for which the record is believed to be incomplete or incorrect.

Record Source Categories:

Data in this system is obtained from documents submitted by individuals covered by the system as well as documents issued by Corporation officials involved with managing funds.

Exemption Claimed for the System:

None.

Dated: January 24, 2002.
Frank R. Trinity,
General Counsel.

[FR Doc. 02-2240 Filed 1-29-02; 8:45 am]

BILLING CODE 6050-28-P